NATIONAL AERONAUTICS AND SPACE ADMINISTRATION

[Notice 13-075]

NASA Advisory Council; Aeronautics Committee; Meeting

AGENCY: National Aeronautics and Space Administration.

ACTION: Notice of Meeting.

SUMMARY: In accordance with the Federal Advisory Committee Act, Public Law 92-463, as amended, the National Aeronautics and Space Administration announces a meeting of the Aeronautics Committee of the NASA Advisory Council. This Committee reports to the NAC. The meeting will be held for the purpose of soliciting, from the aeronautics community and other persons, research and technical information relevant to program planning.

DATES: Tuesday, July 30, 2013, 9:00 a.m. to 5:00 p.m.; Local Time.

ADDRESSES: NASA Headquarters, Room 6E40, 300 E Street SW., Washington, DC 20546.

FOR FURTHER INFORMATION CONTACT: Ms. Susan L. Minor, Executive Secretary for the Aeronautics Committee, NASA Headquarters, Washington, DC 20546, (202) 358-0566, or susan.l.minor@nasa.gov.

SUPPLEMENTARY INFORMATION: The meeting will be open to the public up to the capacity of the room. Any person interested in participating in the meeting by WebEx and telephone should contact Ms. Susan L. Minor at (202) 358-0566 for the web link, toll-free number and passcode. The agenda for the meeting includes the following topics:

• Aeronautics Research Mission Directorate (ARMD) FY 2014 President's Budget and Future Planning

• NASA Flight Research Planning

• National Research Council Autonomy Study Discussion

• Unmanned Aircraft Systems Subcommittee Outbrief

• Advanced Composites Project Planning

It is imperative that these meetings be held on this date to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Susan Minor, NASA Advisory Council Aeronautics Committee Executive Secretary, fax (202) 358-4060. U.S. citizens and Permanent Residents (green card holders) are requested to submit their name and affiliation 3 working days prior to the meeting to Susan Minor at (202) 358-0566.

Patricia D. Rausch,
Advisory Committee Management Officer, National Aeronautics and Space Administration.

[FR Doc. 2013-16415 Filed 7-8-13; 8:45 am]

BILLING CODE 7510-13-P